FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012069-002.

Title: CSCL/ELJSA Slot Exchange Agreement.

Parties: China Shipping Container Lines Co., Ltd.; China Shipping Container Lines (Hong Kong) Co. Ltd.; and Evergreen Line Joint Service Agreement.

Filing Party: Brett M. Esber, Esq.; Blank Rome, LLP; Watergate; 600 New Hampshire Avenue NW., Washington, DC 20037.

Synopsis: The amendment decreases the number of slots being exchanged under the agreement, extends the minimum term of the agreement, and makes other non-substantial changes.

Agreement No.: 012187-001.

Title: Siem Car Carriers AS/Hoegh Autoliners AS Space Charter Agreement.

Parties: Siem Car Carriers AS and Hoegh Autoliners, AS.

Filing Party: Ashley W. Craig Esq.; Venable LLP; 575 Seventh Street NW., Washington, DC 20004.

Synopsis: The amendment updates the names of the parties and revises the geographic scope of the agreement to include the U.S. East Coast and Mexico.

Agreement No.: 012266.

Title: HLAG/CSAV Trans-Atlantic Space Charter Agreement.

Parties: Hapag-Lloyd AG and Compania Sud Americana de Vapores S.A.

Filing Party: Wayne R. Rohde, Esq.; Cozen O'Connor; 1627 I Street NW., Suite 1100; Washington, DC 20006.

Synopsis: The agreement would authorize Hapag-Lloyd to charter space to CSAV in the trade between the U.S. Atlantic and Gulf Coasts and Mexico, on the one hand, and ports in North Europe, on the other hand.

Agreement No.: 012267.

Title: COSCON/CSCL Vessel Sharing and Slot Exchange Agreement.

Parties: China Shipping Container Lines Co., Ltd. and China Shipping Container Lines (Hong Kong) Co. Ltd. (collectively CSCL); COSCO Container Lines Company Limited.

Filing Party: Brett M. Esber, Esq.; Blank Rome, LLP; Watergate; 600 New Hampshire Avenue NW.; Washington, DC 20037.

Synopsis: The agreement authorizes the parties to cooperate to establish a weekly liner service in the trade between China (including Hong Kong), South Korea, Vietnam, Singapore, Taiwan, and Canada, on the one hand, and the U.S. East and West Coasts on the other hand. The agreement also authorizes the parties to exchange slots on this service and other services operated by the parties.

Agreement No.: 012268.

Title: CSCL/PIL Slot Charter Agreement.

Parties: China Shipping Container Lines Co., Ltd. and China Shipping Container Lines (Hong Kong) Co. Ltd. (collectively CSCL) and Pacific International Lines (PTE) Ltd.

Filing Party: Brett M. Esber, Esq.; Blank Rome, LLP; Watergate; 600 New Hampshire Avenue NW.; Washington, DC 20037.

Synopsis: The agreement authorizes CSCL to charter space to PIL in the trade between China and the U.S. West Coast.

By Order of the Federal Maritime Commission.
Dated: April 25, 2014.
Rachel E. Dickon,
Assistant Secretary.

[FR Doc. 2014-09844 Filed 4-29-14; 8:45 am]

BILLING CODE 6730-01-P